DEPARTMENT OF DEFENSE

National Reconnaissance Office

Privacy Act of 1974; System of Records

AGENCY: National Reconnaissance Office, DOD.

ACTION: Notice to Add Systems of Records.

SUMMARY: The National Reconnaissance Office is adding four systems of records notices to its inventory of record systems subject to the Privacy Act of 1974, (5 U.S.C. 552a), as amended.

DATES: This proposed action will be effective without further notice on September 29, 2000 unless comments are received which result in a contrary determination.

ADDRESSES: National Reconnaissance Office, 14675 Lee Road Chantilly, VA 20151-1715.

FOR FURTHER INFORMATION CONTACT: Ms. Barbara Freimann at (703) 808-5029.

SUPPLEMENTARY INFORMATION: The National Reconnaissance Office systems of records notices subject to the Privacy Act of 1974, (5 U.S.C. 552a), as amended, have been published in the Federal Register and are available from the address above.

The proposed system report, as required by 5 U.S.C. 552a(r) of the Privacy Act of 1974, as amended, was submitted on August 16, 2000, to the House Committee on Government Reform, the Senate Committee on Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: August 24, 2000.
L.M. Bynum,
Alternate OSD Federal Register Liaison Officer, Department of Defense.

QNRO-13

System name:

Training and Enrollment Support System (TESS).

System location:

Office of Security, Office of Security Training and Education Division, National Reconnaissance Office, 14675 Lee Road, Chantilly, VA 20151-1715.

Categories of individuals covered by the system:

National Reconnaissance Office (NRO) civilian, military, and contractor personnel who have chosen to participate in the security training and education program.

Categories of records in the system:

Name, Social Security Number, employer, date and place of birth, work addresses, work telephone numbers, facsimile numbers, company, organization, job position, activities (courses) with dates and status, sponsor, program access status, and (occasionally) security investigation date.

Authority for maintenance of the system:

National Security Act of 1947, as amended, 50 U.S.C. 401 et seq; 5 U.S.C. 301, Departmental Regulations; E.O. 12333; and E.O. 9397 (SSN).

Purpose(s):

The Training and Enrollment Support System is used to manage the nomination and enrollment administrative process for training in security-related courses.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

Some records may be released to employing organizations to document training.

The DoD ‘Blanket Routines Uses’ published at the beginning of the NRO compilation of systems of records notices apply to this system.

Policies and practices for storing, retrieving, accessing, retaining, and disposing of records in the system:

Storage:

Automated information system, maintained in computers and computer output products

Retrievability:

Name and Social Security Number.

Safeguards:

Records are stored in secure, a gated facility, guard, badge, and password access protected. Access to the automated information system is limited to a small number of staff members. The system is restricted access and password protected. Use of the data in the records is limited to those of the training staff whose official duties require such access.

Retention and disposal:

Records are temporary, to be destroyed when three years old. Earlier disposal is authorized if records are superseded, obsolete, or no longer needed. Records relating to training courses sponsored by other agencies or organizations are also temporary, destroyed when superseded, obsolete, or no longer needed.

System manager(s) and address:

Chief, Office of Security Training and Education Division National Reconnaissance Office, 14675 Lee Road, Chantilly, VA 20151-1715.

Notification procedure:

Individuals seeking to determine whether this system of records contains information about themselves should address written inquiries to the National Reconnaissance Office, Information Access and Release Center, 14675 Lee Road, Chantilly, VA 20151-1715.

Request should include the individual's full name, address, Social Security Number, and other information identifiable from the record.

In addition, the requester must provide a notarized statement or an unsworn declaration made in accordance with 28 U.S.C. 1746, in the following format:

If executed without the United States: ‘I declare (or certify, verify, or state) under penalty of perjury under the laws of the United States of America that the foregoing is true and correct. Executed on (date). (Signature)’.

If executed within the United States, its territories, possessions, or commonwealths: ‘I declare (or certify, verify, or state) under penalty of perjury that the foregoing is true and correct. Executed on (date). (Signature)’.

Record access procedures:

Individuals seeking to access information about themselves contained in this system should address written inquiries to the National Reconnaissance Office, Information Access and Release Center, 14675 Lee Road, Chantilly, VA 20151-1715.

Request should include the individual's full name, address, Social Security Number, and other information identifiable from the record.

In addition, the requester must provide a notarized statement or an unsworn declaration made in accordance with 28 U.S.C. 1746, in the following format:

If executed without the United States: ‘I declare (or certify, verify, or state) under penalty of perjury under the laws of the United States of America that the foregoing is true and correct. Executed on (date). (Signature)’.

If executed within the United States, its territories, possessions, or commonwealths: ‘I declare (or certify, verify, or state) under penalty of perjury that the foregoing is true and correct. Executed on (date). (Signature)’.

Contesting record procedures:

The NRO rules for accessing records, for contesting contents and appealing initial agency determinations are published in NRO Directive 110-3 and NRO Instruction 110-5; 32 CFR part 326; or may be obtained from the Privacy Act Coordinator, National Reconnaissance Office, 14675 Lee Road, Chantilly, VA 20151-1715.

Record source categories:

Information is supplied by the individual on the course nomination forms. Some information is supplied from the Super Message Case Personnel data base.

Exemptions claimed for the system:

None.

QNRO-14

System name:

Automated Travel Information Processing System.

System location:

Management Services and Operations, Travel Reservation and Accounting Center, National Reconnaissance Office, 14675 Lee Road, Chantilly, VA 20151-1715.

Categories of individuals covered by the system:

National Reconnaissance Office (NRO) military, and civilian personnel who make arrangements for official travel and training, or who have the responsibility to approve such travel and training arrangements.

Categories of records in the system:

Name, Social Security Number, date of birth, employer, employee number, parent organization, office room number, work telephone number, grade or rank, accounting number, and travel orders to include travel dates, times, and locations

Authority for maintenance of the system:

National Security Act of 1947, as amended, 50 U.S.C. 401 et seq; 5 U.S.C. 301, Departmental Regulations; E.O. 12333; and E.O. 9397 (SSN).

Purpose(s):

Records are used for automated travel preparation, approval, and accounting. Data occasionally may be used for the compilation of statistics and financial audits and accountability.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

Records may, on occasion, be released to other government agencies for travel audits or oversight accountability.

The DoD ‘Blanket Routines Uses’ published at the beginning of the NRO compilation of systems of records notices apply to this system.

Policies and practices for storing, retrieving, accessing, retaining, and disposing of records in the system:

Storage:

Automated information system, maintained in computers and computer output products

Retrievability:

Name, organization, travel order number, and accounting number.

Safeguards:

Records are stored in a secure, gated facility, guard, badge, and password access protected. Although all NRO personnel may access the Automated Travel Information Processing System to make their own individual travel arrangements, access to and use of different categories of records are partitioned and limited to Travel Reservation and Accounting Center staff whose official duties require such access.

Retention and disposal:

Records are temporary and may be destroyed six years after the period of the account.

System manager(s) and address:

Chief, Travel Reservation and Accounting Center, Management Services and Operations, National Reconnaissance Office, 14675 Lee Road, Chantilly, VA 20151-1715.

Notification procedure:

Individuals seeking to determine whether this system of records contains information about themselves should address written inquiries to the National Reconnaissance Office, Information Access and Release Center, 14675 Lee Road, Chantilly, VA 20151-1715.

Request should include the individual's full name, address, Social Security Number, and other information identifiable from the record.

In addition, the requester must provide a notarized statement or an unsworn declaration made in accordance with 28 U.S.C. 1746, in the following format:

If executed without the United States: ‘I declare (or certify, verify, or state) under penalty of perjury under the laws of the United States of America that the foregoing is true and correct. Executed on (date). (Signature)’.

If executed within the United States, its territories, possessions, or commonwealths: ‘I declare (or certify, verify, or state) under penalty of perjury that the foregoing is true and correct. Executed on (date). (Signature)’.

Record access procedures:

Individuals seeking to access information about themselves contained in this system should address written inquiries to the National Reconnaissance Office, Information Access and Release Center, 14675 Lee Road, Chantilly, VA 20151-1715.

Request should include the individual's full name, address, Social Security Number, and other information identifiable from the record.

In addition, the requester must provide a notarized statement or an unsworn declaration made in accordance with 28 U.S.C. 1746, in the following format:

If executed without the United States: ‘I declare (or certify, verify, or state) under penalty of perjury under the laws of the United States of America that the foregoing is true and correct. Executed on (date). (Signature)’.

If executed within the United States, its territories, possessions, or commonwealths: ‘I declare (or certify, verify, or state) under penalty of perjury that the foregoing is true and correct. Executed on (date). (Signature)’.

Contesting record procedures:

The NRO rules for accessing records, for contesting contents and appealing initial agency determinations are published in NRO Directive 110-3 and NRO Instruction 110-5; 32 CFR part 326; or may be obtained from the Privacy Act Coordinator, National Reconnaissance Office, 14675 Lee Road, Chantilly, VA 20151-1715.

Contesting record procedures:

The NRO rules for accessing records, for contesting contents and appealing initial agency determinations are published in NRO Directive 110-3 and NRO Instruction 110-5; 32 CFR part 326; or may be obtained from the Privacy Act Coordinator, National Reconnaissance Office, 14675 Lee Road, Chantilly, VA 20151-1715.

Record source categories:

Information is supplied by the users of the system.

Exemptions claimed for the system:

None.

QNRO-17

System name:

NRO Alumni Database.

System location:

Office of Policy, Center for the Study of National Reconnaissance, National Reconnaissance Office, 14675 Lee Road, Chantilly, VA 20151-1715.

Categories of individuals covered by the system:

Current and former government, military, and contractor personnel, who have participated in certain National Reconnaissance Office (NRO) programs and projects.

Categories of records in the system:

Name, Social Security Number, employer, work telephone number, home address and telephone number, date of birth, e-mail address, program association, organization or affiliation, dates of participation, and security-briefed status.

Authority for maintenance of the system:

National Security Act of 1947, as amended, 50 U.S.C. 401 et seq; 5 U.S.C. 301, Departmental Regulations; E.O. 12333; E.O. 9397 (SSN).

Purpose(s):

The database will track the contributing alumni of national reconnaissance programs, particularly those programs retired or declassified. Data will be used for the activities of the declassification of post-Corona programs; the NRO's 40th Anniversary celebration; and as a resource for the NRO Historian's research.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

Certain limited information concerning the alumni may be shared with other government agencies, the alumni's parent organizations, or with private persons, foundations or companies in order to recognize alumni contributions and achievements or, in some cases, to seek advice.

The DoD ‘Blanket Routines Uses’ published at the beginning of the NRO compilation of systems of records notices apply to this system.

Policies and practices for storing, retrieving, accessing, retaining, and disposing of records in the system:

Storage:

Automated information system, maintained in computers and computer output products

Retrievability:

Data is retrieved by individual's name and program name.

Safeguards:

Records are stored in secure, gated facility, guard, badge, and password access protected. Access to and use of these records are limited to NRO staff who are involved with the projects for which the database is maintained.

Retention and disposal:

Records are historical and are permanent.

System manager(s) and address:

Director, Center for the Study of National Reconnaissance, Office of Policy, National Reconnaissance Office, 4675 Lee Road, Chantilly, VA 20151-1715.

Notification procedure:

Individuals seeking to determine whether this system of records contains information about themselves should address written inquiries to the National Reconnaissance Office, Information Access and Release Center, 14675 Lee Road, Chantilly, VA 20151-1715.

Request should include the individual's full name, address, Social Security Number, and other information identifiable from the record.

In addition, the requester must provide a notarized statement or an unsworn declaration made in accordance with 28 U.S.C. 1746, in the following format:

If executed without the United States: ‘I declare (or certify, verify, or state) under penalty of perjury under the laws of the United States of America that the foregoing is true and correct. Executed on (date). (Signature)’.

If executed within the United States, its territories, possessions, or commonwealths: ‘I declare (or certify, verify, or state) under penalty of perjury that the foregoing is true and correct. Executed on (date). (Signature)’.

Record access procedures:

Individuals seeking to access information about themselves contained in this system should address written inquiries to the National Reconnaissance Office, Information Access and Release Center, 14675 Lee Road, Chantilly, VA 20151-1715.

Request should include the individual's full name, address, Social Security Number, and other information identifiable from the record.

In addition, the requester must provide a notarized statement or an unsworn declaration made in accordance with 28 U.S.C. 1746, in the following format:

If executed without the United States: ‘I declare (or certify, verify, or state) under penalty of perjury under the laws of the United States of America that the foregoing is true and correct. Executed on (date). (Signature)’.

If executed within the United States, its territories, possessions, or commonwealths: ‘I declare (or certify, verify, or state) under penalty of perjury that the foregoing is true and correct. Executed on (date). (Signature)’.

Contesting record procedures:

The NRO rules for accessing records, for contesting contents and appealing initial agency determinations are published in NRO Directive 110-3 and NRO Instruction 110-5; 32 CFR part 326; or may be obtained from the Privacy Act Coordinator, National Reconnaissance Office, 14675 Lee Road, Chantilly, VA 20151-1715.

Record source categories:

Information is supplied by the individual, by award nominators and fellow alumni, and by source documentation.

Exemptions claimed for the system:

None.

QNRO-18

System name:

Document On-line Control System.

System location:

Management Services and Operations, Information Services Center, National Reconnaissance Office, 14675 Lee Road, Chantilly, VA 20151-1715.

Categories of individuals covered by the system:

National Reconnaissance Office (NRO) civilian, military, and contractor personnel who have custodianship of classified materials

Categories of records in the system:

Name, office and document data such as title, (including series, revision, volume and copy number), security classification, type of media, origin date, security control channels, project codes, manifest information, package information and statistics

Authority for maintenance of the system:

National Security Act of 1947, as amended, 50 U.S.C. 401 et seq; 5 U.S.C. 301, Departmental Regulations; E.O. 12333; E.O. 12958; E.O. 12968.

Purpose(s):

The Document On-line Control System accounts for the accountable documents and tracks the non-accountable documents, and controls the record of the NRO personnel to whom the document is assigned.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

Information may be shared with other government agencies to track a specific document or identify the custodian of a particular document.

The DoD ‘Blanket Routines Uses’ published at the beginning of the NRO compilation of systems of records notices apply to this system.

Policies and practices for storing, retrieving, accessing, retaining, and disposing of records in the system:

Storage:

Automated information system, maintained in computers and computer output products.

Retrievability:

Name, office, document title, control number, classification, type of media, transmittal package number, manifest number, date project codes, control channels, and statistics, as well as by scanning the document barcode.

Safeguards:

Records are stored in a secure, gated facility, guard, badge, and password access protected. Access to and use of these records are limited to Information Services Center staff whose official duties require such access. System access is pre-determined and restricted.

Retention and disposal:

Records are permanent.

System manager(s) and address:

Chief, Information Services Center, Management Services and Operations, National Reconnaissance Office, 14675 Lee Road, Chantilly, VA 20151-1715.

Notification procedure:

Individuals seeking to determine whether this system of records contains information about themselves should address written inquiries to the National Reconnaissance Office, Information Access and Release Center, 14675 Lee Road, Chantilly, VA 20151-1715.

Request should include the individual's full name, address, Social Security Number, and other information identifiable from the record.

In addition, the requester must provide a notarized statement or an unsworn declaration made in accordance with 28 U.S.C. 1746, in the following format:

If executed without the United States: ‘I declare (or certify, verify, or state) under penalty of perjury under the laws of the United States of America that the foregoing is true and correct. Executed on (date). (Signature)’.

If executed within the United States, its territories, possessions, or commonwealths: ‘I declare (or certify, verify, or state) under penalty of perjury that the foregoing is true and correct. Executed on (date). (Signature)’.

Record access procedures:

Individuals seeking to access information about themselves contained in this system should address written inquiries to the National Reconnaissance Office, Information Access and Release Center, 14675 Lee Road, Chantilly, VA 20151-1715.

Request should include the individual's full name, address, Social Security Number, and other information identifiable from the record.

In addition, the requester must provide a notarized statement or an unsworn declaration made in accordance with 28 U.S.C. 1746, in the following format:

If executed without the United States: ‘I declare (or certify, verify, or state) under penalty of perjury under the laws of the United States of America that the foregoing is true and correct. Executed on (date). (Signature)’.

If executed within the United States, its territories, possessions, or commonwealths: ‘I declare (or certify, verify, or state) under penalty of perjury that the foregoing is true and correct. Executed on (date). (Signature)’.

Contesting record procedures:

The NRO rules for accessing records, for contesting contents and appealing initial agency determinations are published in NRO Directive 110-3 and NRO Instruction 110-5; 32 CFR part 326; or may be obtained from the Privacy Act Coordinator, National Reconnaissance Office, 14675 Lee Road, Chantilly, VA 20151-1715.

Record source categories:

Information entered into the system is supplied from the documents themselves and from the transmittal process of which the custodian's name is a part.

Exemptions claimed for the system:

None.

[FR Doc. 00-22083 Filed 8-29-00; 8:45 am]

BILLING CODE 5001-10-F